DEPARTMENT OF LABOR

Employment and Training Administration

[TA-W-71,341]

Chart Energy and Chemical, Inc., La Crosse, WI; Notice of Termination of Investigation

Pursuant to Section 221 of the Trade Act of 1974, as amended, an investigation was initiated in response to a petition filed on June 19, 2009, by the International Association of Machinists (IAMAW) Local 2191, on behalf of workers of Chart Energy and Chemical, Inc., La Crosse, Wisconsin.

The petition is a duplicate of petition number TA-W-71,324, filed on June 19, 2009, that is subject of an ongoing investigation. Therefore, further investigation in this case would serve no purpose and the investigation has been terminated.

Signed at Washington, DC, this 7th day of August 2009.
Richard Church,
Certifying Officer, Division of Trade Adjustment Assistance.

[FR Doc. E9-20460 Filed 8-24-09; 8:45 am]

BILLING CODE 4510-FN-P